DEPARTMENT OF COMMERCE

National Oceanic and Atmospheric Administration

50 CFR Part 660

[Docket No. 250924-0162]

RIN 0648-BN26

Fisheries Off West Coast States; West Coast Salmon Fisheries; Federal Salmon Regulations for Overfished Species Rebuilding Plans

AGENCY: National Marine Fisheries Service (NMFS), National Oceanic and Atmospheric Administration (NOAA), Department of Commerce.

ACTION: Final rule.

SUMMARY: NMFS is revising regulations that implement the Pacific Fishery Management Council's (Council) Pacific Coast Salmon Fishery Management Plan (Salmon FMP). This final action removes the rebuilding plans for Queets River natural coho salmon (Queets coho salmon) and Strait of Juan de Fuca natural coho salmon (JDF coho salmon) from regulation, as these stocks have been rebuilt and are no longer required to be managed under a rebuilding plan.

DATES: Effective November 3, 2025.

FOR FURTHER INFORMATION CONTACT: Anna Heeter, Fishery Management Specialist, at (971) 361-8895, Anna.Heeter@noaa.gov, or Shannon Penna, (562)980-4239, Shannon.Penna@noaa.gov.

SUPPLEMENTARY INFORMATION: Regulations at 50 CFR part 660, subpart H implement the management of West Coast salmon fisheries under the Salmon FMP in the exclusive economic zone (3 to 200 nautical miles (5.6 to 370.4 kilometers)) off the coasts of the States of Washington, Oregon, and California.

In 2018, NMFS determined that the Queets coho salmon and JDF coho salmon stocks were overfished under the Magnuson-Stevens Fishery and Conservation Management Act (MSA) (Letter from Barry A. Thom, NMFS West Coast Regional Administrator, to Phil Anderson, Pacific Fishery Management Council Chair, dated June 18, 2018). The MSA requires Councils to develop and implement a rebuilding plan within 2 years of being notified by NMFS that a stock is overfished (16 U.S.C. 1854(e)(3)). The Council transmitted its recommended rebuilding plans to NMFS on October 17, 2019, which were similar to the existing management frameworks, to rebuild Queets coho salmon and JDF coho salmon (Letter from Charles A. Tracy, Pacific Fishery Management Council Executive Director, to Barry A. Thom, NMFS West Coast Regional Administrator, dated October 17, 2019).

The Council determined that the recommended rebuilding plans met the MSA requirement to rebuild the stocks as quickly as possible, taking into account the status and biology of any overfished stock and the needs of fishing communities (50 CFR 600.310(j)(3)(i)). NMFS approved and implemented the Council's recommended rebuilding plans for the Queets coho salmon and JDF coho salmon stocks through a final rule (86 FR 9301, March 15, 2021).

In 2024, NMFS determined that Queets coho salmon and JDF coho salmon met the criteria in the Salmon FMP for being rebuilt and notified the Council (Letter from Jennifer Quan, NMFS West Coast Regional Administrator, to Merrick Burden, Pacific Fishery Management Council Executive Director, dated August 1, 2024). A stock is rebuilt when the 3-year geometric mean spawning escapement exceeds the level associated with the maximum sustainable yield (SMSY) (Salmon FMP).

When Queets coho salmon was determined to be overfished, the 3-year geometric mean was 4,291 (2014 to 2016). The most recent 3-year geometric mean of the spawning escapement reported for this stock (2020 to 2022) is 6,624, which exceeds the stock's spawning escapement required to achieve SMSY 5,800 spawners. When JDF coho salmon was determined to be overfished, the 3-year geometric mean was 6,842 (2014 to 2016). The most recent 3-year geometric mean of the spawning escapement reported for this stock (2020 to 2022) is 14,461, which exceeds the stock's spawning escapement required to achieve SMSY, which is 11,000 spawners.

As these stocks have been determined to be rebuilt, they are no longer required to be managed under rebuilding plans. The Queets coho salmon and JDF coho salmon rebuilding plans should be removed from regulation because the plans are no longer necessary. Removing the rebuilding plans from regulation would also avoid potential misconceptions regarding the status of these stocks. Additionally, removing these rebuilding plans from regulation will avoid errors should NMFS make a future determination that these stocks are overfished again, in which case the MSA requires the Council to prepare and implement a rebuilding plan within 2 years of that determination (50 CFR 600.310(j)(2)(ii)). Leaving the current rebuilding plans in regulation could cause confusion as they might be misperceived as being the applicable management measures for Queets coho salmon and JDF coho salmon, which is not the intention of the Council nor of NMFS. Therefore, to avoid any misinterpretation, it is necessary to remove the existing rebuilding plans from 50 CFR 660.413(c) and (d).

Public Comment

NMFS received five comments during the public comment period from March 28, 2025, to April 28, 2025. Four comments were from private citizens, and the fifth comment was a letter from the Sportsmen's Alliance Foundation.

Comment 1: NMFS received three public comments in support of removing the Queets coho salmon and JDF coho salmon rebuilding plans from regulation. Two of these comments were from the public and one was from the Sportmen's Alliance Foundation. The commenters expressed that they felt NMFS had presented sufficient scientific evidence to support the rebuilt determinations for the Queets coho salmon and JDF coho salmon and that removing the rebuilding plans from regulation will further clarify the current status of the stocks.

Response: NMFS appreciates the time these commenters took to outline their support for the Queets coho salmon and JDF coho salmon rebuilt rule. These comments raise no additional issues that need to be addressed.

Comment 2: Two comments from the public expressed concern over removing the specified rebuilding plans. The commenters both emphasized the importance of collaborating with tribal co-managers, ensuring stock assessments are detailed, identifying mathematical and monitoring shortcomings, and considering emerging threats to these stocks during the rebuilt determination process. Both commenters emphasized that NMFS should approach the removal of the Queets coho salmon and JDF coho salmon rebuilding plans with caution due to the complexity of salmon management.

Response: NMFS appreciates these comments submitted regarding the Queets coho salmon and JDF coho salmon rebuilt rule. NMFS already determined that these two salmon stocks have been successfully rebuilt (Letter from Jennifer Quan, NMFS West Coast Regional Administrator, to Merrick Burden, Pacific Fishery Management Council Executive Director, dated August 1, 2024). This rulemaking is administrative in nature insofar as it removes from the CFR the rebuilding plans that no longer serve a functional purpose. This action does not alter protections for Queets coho salmon and JDF coho salmon that are outlined in the Salmon FMP, and will not alter the control rules already established by the Salmon FMP as the Council adopted the Status Quo alternative (i.e., Salmon FMP control rule) for both stocks. Analysis of the proposed management alternatives in both rebuilding plans indicated the stocks were anticipated to rebuild within a few years which is what has occurred. As described in the Salmon FMP, the 3-year geometric mean is used as the metric to determine stock status relevant to overfished determinations consistent with the requirements of the MSA. The affected Tribes were members of the team that developed the rebuilding plans, participated Council discussions and technical analysis regarding the status of the stocks and were consulted about NMFS' decisions regarding changes in stock status for these stocks. The status of both stocks will continue to be assessed each year as required by the Salmon FMP. Further information on the topics outlined in each of these comments can be found in the Salmon FMP located on the PFMC website at: https://www.pcouncil.org.

Classification

NMFS is issuing this rule pursuant to section 305(d) of the MSA. This rule is a technical change and would update the regulations governing the salmon fishery by deleting a provision that is no longer necessary. The NMFS Assistant Administrator has determined that this rule is consistent with the FMP and other applicable law.

This final rule has been determined to be not significant for purposes of Executive Order (E.O.) 12866.

This final rule is not an Executive Order 14192 regulatory action because this action is not significant under Executive Order 12866.

NMFS has determined that this action would not have a substantial direct effect on one or more Indian Tribes, on the relationship between the Federal Government and Indian Tribes, or Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared. The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995, 44 U.S.C. 3501 et seq.

List of Subjects in 50 CFR Part 660

Fisheries, Fishing, Recording and reporting requirements.

Dated: September 24, 2025.
Samuel D. Rauch III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

§ 660.413 [Amended]

2. Amend § 660.413 by removing paragraphs (c) and (d).

[FR Doc. 2025-19371 Filed 10-1-25; 8:45 am]

BILLING CODE 3510-22-P